DEPARTMENT OF ENERGY

Federal Energy Regulatory Commission

[Docket No. GT02-22-000]

Petal Gas Storage, L.L.C.; Notice of Material Deviation Tariff Filing

May 7, 2002.

Take notice that on May 1, 2002, Petal Gas Storage, L.L.C. (Petal), tendered for filing its Material Deviation Tariff Filing.

Petal's filing requests that the Commission approve a Firm Transportation Service Agreement between Petal and Southern Company Services, Inc., which contains certain deviations from Petal's pro forma service agreement. Petal requests that the Commission approve the filing effective June 1, 2002.

Petal states that copies of the filing have been mailed to each of its customers and affected state regulatory commissions.

Any person desiring to be heard or to protest said filing should file a motion to intervene or a protest with the Federal Energy Regulatory Commission, 888 First Street, NE, Washington, DC 20426, in accordance with Sections 385.214 or 385.211 of the Commission's Rules and Regulations. All such motions or protests must be filed on or before May 14, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-11842 Filed 5-10-02; 8:45 am]

BILLING CODE 6717-01-P